DEPARTMENT OF ENERGY

Federal Energy Regulatory Commission

Notice of Application For Amendment of License and Soliciting Comments, Motions To Intervene, and Protests

November 6, 2003.

Take notice that the following application has been filed with the Commission and is available for public inspection:

a. Application Type: Amendment of License to Replace the Turbines at the Wanapum Development.

b. Project No.: 2114-117.

c. Date Filed: October 2, 2003.

d. Applicant: Public Utility District No. 2 of Grant County, Washington.

e. Name of Project: Priest Rapids Hydroelectric Project.

f. Location: On the Columbia River, in Grant, Yakima, Kittitas, Douglas, Benton, and Chelan counties, Washington. The project occupies federal lands managed by the U.S. Bureau of Land Management, U.S. Bureau of Reclamation, U.S. Department of Energy, U.S. Department of the Army, and U.S. Fish and Wildlife Service.

g. Filed Pursuant to: Federal Power Act, 16 U.S.C. 791a-825r.

h. Applicant Contact: Cliff Sears, Regulatory Compliance Coordinator, Public Utility District No. 2 of Grant County, Washington, P.O. Box 878, Ephrata, WA 98823; (509) 754-3541.

i. FERC Contact: Any questions on this notice should be addressed to Mr. Vedula Sarma at (202) 502-6190, or e-mail address: vedula.sarma@ferc.gov.

j. Deadline for filing comments, motions to intervene, and protest: December 5, 2003.

k. Description of Request: Grant seeks authorization to replace one Kaplan turbine at its Wanapum development with a new and upgraded turbine in unit #8 and, if it meets specified performance criteria for juvenile salmon passage survival, to sequentially replace the remaining 9 turbine units at the rate of 1 unit every 9 months. Grant states the proposed turbines replacement would provide for increased project power, increased hydraulic capacity, equal or better juvenile salmon passage survival, and improved water quality by reducing the amount of forced spill at Wanapum Dam during periods of high flow. The total rated capacity of the new turbines at the Wanapum Development would increase from 1,200,000 hp (900 MW) to 1,500,000 hp (1,125 MW), and the total hydraulic capacity would increase from 178,000 cfs to 188,000 cfs. The generators' total nameplate capacity would remain unchanged at 1,038 MW.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. E3-00213 Filed 11-13-03; 8:45 am]

BILLING CODE 6717-01-P